DEPARTMENT OF VETERANS AFFAIRS

Notice of Intent To Grant An Exclusive License

AGENCY: Office of Research and Development, Department of Veterans Affairs.

ACTION: Notice of Intent.

SUMMARY: Notice is hereby given that the Department of Veterans Affairs (VA), Office of Research and Development (ORD), intends to grant TiSport, LLC, 2701 West Court Street, Pasco, WA 99301 an exclusive license to practice the following patent: U.S. Patent No. #6,892,421, “Oblique Angled Suspension Caster Fork for Wheelchairs,” issued May 17, 2005. Copies of the published patent may be obtained from the U.S. Patent and Trademark Office at www.uspto.gov.

DATES: Comments must be received within 15 days from the date of this published Notice.

ADDRESSES: Written comments may be submitted through www.regulations.gov; by mail or hand-delivery to the Director, Regulations Management (02REG), Department of Veterans Affairs, 810 Vermont Avenue NW., Room 1068, Washington, DC 20420; or by fax to (202) 273-9026. Copies of comments received will be available for public inspection in the Office of Regulation Policy and Management, Room 1063B, between the hours of 8:00 a.m. and 4:30 p.m., Monday through Friday (except holidays). Call (202) 461-4902 for an appointment. (This is not a toll-free number.) In addition, during the comment period, comments may be viewed online through the Federal Docket Management System (FDMS) at http://www.regulations.gov.

FOR FURTHER INFORMATION CONTACT: Director, Technology Transfer Program, Office of Research and Development (10P9TT), Veterans Health Administration, Department of Veterans Affairs, 810 Vermont Avenue NW., Washington, DC 20420; (202) 443-5640. (This is not a toll-free number.)

SUPPLEMENTARY INFORMATION: It is in the public interest to license these inventions to TiSport, LLC to facilitate the development and commercialization of new and useful medical equipment. The prospective exclusive license will be royalty-bearing, and will comply with the terms and conditions of 35 U.S.C. 209 and 37 CFR 404.7. The prospective exclusive license may be granted, unless VA ORD receives written evidence and argument within 15 days from the date of this published Notice, which establishes that the grant of the license would not be consistent with the requirements of 35 U.S.C. 209 and 37 CFR 404.7.

Approved: June 4, 2013.
Jose D. Riojas,
Interim Chief of Staff, Department of Veterans Affairs.

[FR Doc. 2013-14290 Filed 6-14-13; 8:45 am]

BILLING CODE 8320-01-P